DEPARTMENT OF THE INTERIOR

Bureau of Land Management

[LLNVE03000 L5110000.GN0000LVEMF1201550 241A; NVN-091032; 14-08807; MO# 4500058790]

Notice of Availability of the Draft Environmental Impact Statement for the Proposed Long Canyon Mine Project, Elko County, NV

AGENCY: Bureau of Land Management, Interior.

ACTION: Notice of availability.

SUMMARY: In compliance with the National Environmental Policy Act of 1969, as amended, and the Federal Land Policy and Management Act of 1976, as amended, the Bureau of Land Management (BLM) has prepared a Draft Environmental Impact Statement (EIS) for the proposed Long Canyon Mine Project and by this notice is announcing the opening of the comment period.

DATES: To ensure comments will be considered, the BLM must receive written comments on the Long Canyon Mine Project Draft EIS within 45 days following the date the Environmental Protection Agency publishes its Notice of Availability in the Federal Register. The BLM will announce future public meetings or other public involvement activities at least 15 days in advance through public notices, media releases, and/or mailings.

ADDRESSES: You may submit comments related to the Long Canyon Mine Project by any of the following methods:

• Email: BLM_NV_ELDOLongCanyonMine@blm.gov.

• Fax: 775-861-6601

• Mail: Bureau of Land Management, Long Canyon Mine Project, Attention: Whitney Wirthlin, 1340 Financial Boulevard, Reno, NV 89502

Copies of the Long Canyon Mine Project Draft EIS are available in the Elko District Office at the above address and on online at: http://www.blm.gov/nv/st/en/fo/elko_field_office/blm_information/nepa/long_canyon_eis__7.html

FOR FURTHER INFORMATION CONTACT: Whitney Wirthlin, Project Manager; telephone: 775-861-6400; address: 1340 Financial Boulevard, Reno, NV 89502; email: BLM_NV_ELDOLongCanyonMine@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: Newmont Mining Corporation (Newmont) proposes to construct and operate an open-pit gold mining operation, which would include one open pit, a heap leach pad, one waste rock dump, a tailings storage facility, a natural gas pipeline from the existing Ruby Pipeline, an onsite power generation plant, and other ancillary facilities. The mine would be located on the eastern side of the Pequop Mountain Range, about 30 miles east of Wells, Nevada, and 32 miles west of West Wendover, Nevada, and 5 miles south of Interstate 80. Currently, Fronteer Development (USA) Inc. (Fronteer), a subsidiary of Newmont, is authorized to disturb up to 115 acres for exploration purposes. The associated disturbance for the proposed operations would increase to 1,631 acres of public land, including 480 acres of split estate lands of Federal surface and private subsurface. The projected life of the mine is 8 to 14 years, including construction, operations, closure, and post-closure monitoring. An estimated annual workforce for operations would be approximately 300 to 500 people during the life of the mine.

Fronteer is currently conducting exploration activities in this area which were analyzed in two environmental assessments (EA), the NewWest Gold USA Inc. Long Canyon Exploration Project (July 2008, EA No. BLM/EK/PL-2008/011) and Fronteer Development (USA) Inc. Expanded Long Canyon Exploration Project (June 2011, DOI-BLM-NV-N030-2011-00001-EA). The proposed Long Canyon Mine is in conformance with the Wells Resource Management Plan (RMP) and the proposal is in conformance with the approved decisions of the RMP.

The Draft EIS describes and analyzes the proposed project site-specific impacts (including cumulative) on all affected resources. Two alternatives are analyzed: The North Facilities Alternative and the No Action Alternative. The North Facilities Alternative was designed in response to several environmental issues raised by scoping comments. Under the North Facilities Alternative, most of the mine facilities would be moved to the northern portion of the project area. This alternative addresses impacts to several wildlife species, cultural resources, and responds to requests from the cities of West Wendover, Nevada, and Wendover, Utah, related to potential impacts to their water supply.

Six other alternatives were considered but eliminated from further analysis. Mitigation measures are considered to minimize environmental impacts and to assure the proposed action does not result in unnecessary or undue degradation of public lands.

The BLM received a total of 31 written comment submissions containing 80 items during the public scoping period. The comments the BLM received were submitted by Federal and State agencies as well as members of the general public.

Concerns raised during scoping include: Potential impacts to cultural resources, including impacts to the Hastings Cutoff of the California National Historic Trail; impacts to the habitat of Greater Sage-Grouse; impacts to mule deer winter range and migration patterns; impacts to air quality through point (equipment) and non-point (waste rock disposal areas) pollution sources; changes to the quantity and quality of surface water and groundwater, especially the Big Spring and Johnson Spring complex which is the water resource for West Wendover and Wendover; potential noise impacts to wildlife in the area; impacts to general health of the rangeland resources; potential release of pollutants and hazardous materials to the environment during operations and following closure; increase in light pollution in the area and direct visual impacts from mine facilities; positive and negative socioeconomic impacts to the communities of Wells, Wendover, West Wendover, the Wells Colony and Elko County; and cumulative impacts to wildlife, cultural, air, water, lands and realty, socioeconomics, and vegetation resources.

The BLM has prepared the Draft EIS in conjunction with its eight Cooperating Agencies: Nevada Department of Wildlife; Elko County; City of Elko; City of West Wendover; City of Wendover, Utah; the Confederated Tribes of the Goshute Indian Reservation; the Nevada Division of Environmental Protection; and the Environmental Protection Agency.

Please note that public comments and information submitted including names, street addresses, and email addresses of persons who submit comments will be available for public review and disclosure at the above address during regular business hours (7:45 a.m. to 4:30 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6; 40 CFR 1506.10.

Bryan K. Fuell,
Field Manager, Wells Field Office.

[FR Doc. 2014-06112 Filed 3-20-14; 8:45 am]

BILLING CODE 4310-HC-P